FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201348.

Agreement Name: APL/Swire Guam, Saipan—S. Korea, Japan Slot Charter Agreement.

Parties: American President Lines, LLC and The China Navigation Co. Pte. Ltd. d/b/a Swire Shipping.

Filing Party: Patricia O'Neill, American President Lines, LLC.

Synopsis: The agreement authorizes APL to charter space to SWIRE in the trade between ports in Guam, Saipan, South Korea and Japan.

Proposed Effective Date: 9/29/2020.

Location: https://www2.fmc.gov/FMC.Agreements.Web/Public/AgreementHistory/34502.

Agreement No.: 201349.

Agreement Name: World Shipping Council Agreement.

Parties: COSCO SHIPPING Lines Co., Ltd., COSCO SHIPPING Lines (Europe) Gmbh; Orient Overseas Container Line Ltd., and OOCL (Europe) Limited (acting as a single party); CMA CGM S.A., APL Co. Pte. Ltd., American President Lines, LLC and ANL Singapore Pte. Ltd. (acting as a single party); Crowley Caribbean Services, LLC and Crowley Latin America Services, LLC (acting as a single party); Evergreen Marine Corporation (Taiwan) Ltd.; Hapag-Lloyd AG; HMM Company Limited; Independent Container Line, Ltd.; Kawasaki Kisen Kaisha; Maersk A/S and Hamburg Sud (acting as a single party); MSC Mediterranean Shipping Company SA; Mitsui O.S.K. Lines Ltd.; Nippon Yusen Kaisha; Ocean Network Express Pte. Ltd.; Wallenius Wilhelmsen Ocean AS; Wan Hai Lines Ltd. and Wan Hai Lines (Singapore) Pte. Ltd.; Yang Ming Marine Transport Corp; and Zim Integrated Shipping Services, Ltd.

Filing Party: Robert Magovern; Cozen O'Connor.

Synopsis: The Agreement authorizes the parties to discuss, communicate, and cooperate on environmental and climate-related matters, legal and regulatory matters, and industry positions to be taken with respect to international treaties, governmental requirements, and safety and security matters.

Proposed Effective Date: 11/15/2020.

Location: https://www2.fmc.gov/FMC.Agreements.Web/Public/AgreementHistory/34503.

Dated: October 2, 2020.
Rachel Dickon,
Secretary.

[FR Doc. 2020-22146 Filed 10-6-20; 8:45 am]

BILLING CODE 6730-02-P